DEPARTMENT OF LABOR

Employment and Training Administration

[TA-W-40,834]

Levolor Kirsch Window Fashions, Levolor Home Fashions, Wood and Faux Wood Custom Window Coverings Department, Westminster, CA; Amended Certification Regarding Eligibility To Apply for Worker Adjustment Assistance

In accordance with section 223 of the Trade Act of 1974 (19 USC 2273) the Department of Labor issued a Certification of Eligibility to Apply for Worker Adjustment Assistance on April 8, 2002, applicable to workers of Levolor Kirsch Window Fashions, Wood and Faux Wood Custom Window Coverings Department, Westminster, California. The notice was published in the Federal Register on April 24, 2002 (67 FR 20166).

At the request of the State agency, the Department reviewed the certification for workers of the subject firm. The workers are engaged in the production of wood and faux wood window coverings.

New information shows that some workers separated from employment at the subject firm had their wages reported under a separate unemployment insurance (UI) tax account for Levolor Home Fashions.

Accordingly, the Department is amending the certification to properly reflect this matter.

The intent of the Department's certification is to include all workers of Levolor Kirsch Window Fashions, Wood and Faux Wood Custom Window Coverings Department, Westminster, California who were adversely affected by increased imports.

The amended notice applicable to TA-W-40,834 is hereby issued as follows:

All workers of Levolor Kirsch Window Fashions, Levolor Home Fashions, Wood and Faux Wood Custom Window Coverings Department, Westminster, California, engaged in the production of wood and faux wood window coverings, who became totally or partially separated from employment on or after January 28, 2001, through April 8, 2004, are eligible to apply for adjustment assistance under section 223 of the Trade Act of 1974.

Signed at Washington, DC, this 15th day of July, 2002.
Linda G. Poole,
Certifying Officer, Division of Trade Adjustment Assistance.

[FR Doc. 02-18641 Filed 7-23-02; 8:45 am]

BILLING CODE 4510-30-P